DEPARTMENT OF TRANSPORTATION

Federal Aviation Administration

14 CFR Part 71

[Docket No. FAA-2021-0479; Airspace Docket No. 21-AGL-5]

RIN 2120-AA66

Proposed Amendment of VOR Federal Airways V-170, V-175 and V-250; Establishment of Area Navigation (RNAV) Route T-400; in the Vicinity of Worthington, MN

AGENCY: Federal Aviation Administration (FAA), DOT.

ACTION: Notice of proposed rulemaking (NPRM).

SUMMARY: The FAA proposes to amend three VHF Omnidirectional Range (VOR) Federal airways and establish a new RNAV T-route, in the vicinity of Worthington, Minnesota. This action is necessary due to the planned decommissioning of the VOR portion of the Worthington, MN, VOR/Distance Measuring Equipment (VOR/DME), which provides navigation guidance to portions of the affected Air Traffic Service (ATS) routes. The Worthington VOR is being decommissioned as part of the FAA's VOR Minimum Operational Network (VOR MON) program.

DATES: Comments must be received on or before August 16, 2021.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2021-0479; Airspace Docket No. 21-AGL-5 at the beginning of your comments. You may also submit comments through the internet at https://www.regulations.gov.

FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Jesse Acevedo, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System (NAS).

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-0479; Airspace Docket No. 21-AGL-5) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-0479; Airspace Docket No. 21-AGL-5.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Parkway, Fort Worth, TX 76177.

Availability and Summary of Documents for Incorporation by Reference

This document proposes to amend FAA Order 7400.11E, Airspace Designations and Reporting Points, dated July 21, 2020 and effective September 15, 2020. FAA Order 7400.11E is publicly available as listed in the ADDRESSES section of this document. FAA Order 7400.11E lists Class A, B, C, D, and E airspace areas, air traffic service routes, and reporting points.

Background

The FAA is planning decommissioning activities for the VOR portion of the Worthington, MN, VOR/DME with a planned date of March 24, 2022. The Worthington VOR was one of the candidate VORs identified for discontinuance by the FAA's VOR MON program and listed in the Final policy statement notice, “Provision of Navigation Services for the NextGen Transition to Performance-Based Navigation (PBN) (Plan for Establishing a VOR MON),” published in the Federal Register of July 26, 2016 (81 FR 48694), Docket No. FAA-2011-1082. Although the VOR portion of the Worthington VOR/DME is planned for decommissioning, the co-located DME portion of the navigational aid is being retained in support of current and future RNAV procedures.

The airways affected by the Worthington VOR are V-170, V-175, and V-250. With the planned decommissioning of the Worthington VOR, the remaining ground-based navigational aid coverage in the area is insufficient to enable the continuity of these affected routes. As such, the proposed modifications would result in the removal of airway segments. To overcome the impacts from the loss of portions of the airways, instrument flight rules (IFR) traffic may use adjacent airways, including V-24, V-80, V-120, V-148, V-398, and V-456, to navigate through or around the affected areas. IFR traffic could receive air traffic control radar vectors through the areas. Aircraft equipped with RNAV capabilities may also file point to point through the affected area using the fixes that will remain in place, or use the proposed new RNAV T-400 (in lieu of V-250). Visual flight rules (VFR) pilots may utilize the ATC services previously listed.

The proposed new RNAV T-route, T-400, would mitigate the proposed removal of the airway segment of V-250 between the Yankton, SD, VOR/DME and Mankato, MN, VOR/Tactical Air Navigation (VORTAC). Additionally, it would provide navigational options in areas of limited or no radar coverage to pilots whose aircraft are RNAV equipped. Finally, it would support the FAA's efforts to transition the NAS from ground-based to satellite-based navigation.

The FAA proposes to retain all airspace fixes on the deleted segments of the VOR Federal airways either as fixes or waypoints.

The Proposal

The FAA is proposing an amendment to 14 CFR part 71 to amend three VOR Federal airways and establish one RNAV T-route. The proposed ATS route actions are described below.

V-170: V-170 extends between the Devils Lake, ND, VOR/DME and the Worthington, MN, VOR/DME; between the Rochester, MN, VOR/DME and the Salem, MI, VORTAC; and between the Slate Run, PA, VORTAC and the intersection of the Andrews, MD, VORTAC 060° radial and the Baltimore, MD, VORTAC 165° radial. The airspace within R-5802 is excluded when active. The FAA proposes to remove the airway segment between the Sioux Falls, SD, VORTAC and the Worthington, MN, VOR/DME. This would result in the first segment of the route extending between the Devils Lake, ND, VOR/DME and the Sioux Falls, SD, VORTAC. The second and third segments of the airway would remain unchanged.

V-175: V-175 extends between the Malden, MO, VORTAC and the Des Moines, IA, VORTAC; and between the Worthington, MN, VOR/DME and the Alexandria, MN, VOR/DME. The FAA proposes to remove the airway segment between the Worthington, MN, VOR/DME and the Redwood Falls, MN, VOR/DME. This would result in the last segment of the airway extending between the Redwood Falls VOR/DME and the Alexandria VOR/DME. The first segment of the airway would remain unchanged. Concurrent changes to other segments of V-175 have been proposed in a separate rulemaking proposal.

V-250: V-250 extends between the O'Neill, NE, VORTAC and the Mankato, MN, VOR/DME. The FAA proposes to remove the airway segment from the Yankton, SD, VOR/DME and the Mankato, MN, VOR/DME. The resulting airway would extend between the O'Neill, NE, VORTAC and the Yankton, SD, VOR/DME.

T-400: T-400 would be a new RNAV route that extends between the LLUKY, NE, waypoint (WP), located near the O'Neill, NE, VORTAC and the ZOSAG, MN, WP, which is a new WP being established near the Flying Cloud, MN, VOR/DME as part of this proposal.

All of the navigational aid radials in the airway descriptions below are stated in True degrees.

Domestic VOR Federal airways and RNAV T-routes are published in paragraphs 6010(a) and 6011, respectively, of FAA Order 7400.11E, dated July 21, 2020, and effective September 15, 2020, which are incorporated by reference in 14 CFR 71.1. The ATS routes listed in this document would be published subsequently in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11E, Airspace Designations and Reporting Points, dated July 21, 2020, and effective September 15, 2020, is amended as follows:

Paragraph 6010(a) Domestic VOR Federal Airways.

* * * * *

V-170 [Amended]

From Devils Lake, ND; INT Devils Lake 187° and Jamestown, ND, 337° radials; Jamestown; Aberdeen, SD; to Sioux Falls, SD. From Rochester, MN; Nodine, MN; Dells, WI; INT Dells 097° and Badger, WI, 304° radials; Badger; INT Badger 121° and Pullman, MI, 282° radials; Pullman; to Salem, MI. From Slate Run, PA; Selinsgrove, PA; Ravine, PA; INT Ravine 125° and Modena, PA, 318° radials; Modena; Dupont, DE; INT Dupont 223° and Andrews, MD, 060° radials; to INT Andrews 060° and Baltimore, MD, 165° radials. The airspace within R-5802 is excluded when active.

* * * * *

V-175 [Amended]

From Malden, MO; Vichy, MO; Hallsville, MO; Macon, MO; Kirksville, MO; to Des Moines, IA. From Redwood Falls, MN; to Alexandria, MN.

* * * * *

V-250 [Amended]

From O'Neill, NE; to Yankton, SD.

* * * * *

Paragraph 6011 United States Area Navigation Routes.

* * * * *

T400 LLUKY, NE to ZOSAG, MN [New]
LLUKY, NE | WP | (Lat. 42°29′20.26″ N, long. 098°38′11.44″ W)
IMUPP, SD | WP | (Lat. 42°55′06.44″ N, long. 097°23′05.22″ W)
DURWN, MN | WP | (Lat. 43°38′48.91″ N, long. 095°34′55.87″ W)
MEMCO, MN | WP | (Lat. 44°13′11.42″ N, long. 093°54′45.23″ W)
ZOSAG, MN | WP | (Lat. 44°49′30.74″ N, long. 093°26′34.08″ W)

Issued in Washington, DC.
George Gonzalez,
Acting Manager, Rules and Regulations Group.

[FR Doc. 2021-14092 Filed 7-1-21; 8:45 am]

BILLING CODE 4910-13-P